DEPARTMENT OF JUSTICE

Drug Enforcement Administration

[Docket No. DEA-573]

Importer of Controlled Substances Application: S&B Pharma, Inc.

ACTION: Notice of application.

DATES: Registered bulk manufacturers of the affected basic classes, and applicants therefore, may file written comments on or objections to the issuance of the proposed registration on or before February 18, 2020. Such persons may also file a written request for a hearing on the application on or before February 18, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on November 18, 2019, S&B Pharma, Inc., dba: Norac Pharma, 405 South Motor Avenue, Azusa, California 91702-3232 applied to be registered as an importer of the following basic classes of controlled substances:

Controlled substance | Drug code | Schedule
4-Anilino-N-phenethyl-4-piperidine (ANPP) | 8333 | II
Tapentadol | 9780 | II

The company plans to import the listed controlled substances in bulk for the manufacture of controlled substances for distribution to its customers.

Dated: December 19, 2019.
William T. McDermott,
Assistant Administrator.

[FR Doc. 2020-00661 Filed 1-16-20; 8:45 am]

BILLING CODE 4410-09-P